DEPARTMENT OF DEFENSE

Department of the Army, Corps of Engineers

The Release of the Final Environmental Impact Statement (FEIS) for the Figure Eight Island Shoreline Management Project, on Figure Eight Island, New Hanover County, NC

AGENCY: Department of the Army, U.S. Army Corps of Engineers, DoD.

ACTION: Notice of availability.

SUMMARY: The U.S. Army Corps of Engineers (COE), Wilmington District, Wilmington Regulatory Field Office has received a permit application for Department of the Army authorization, pursuant to Section 404 of the Clean Water Act and Section 10 of the Rivers and Harbors Act, from Figure Eight Beach Homeowners' Association Inc. (HOA) to install a terminal groin structure along Rich Inlet and to conduct a supplemental beach nourishment on approximately 4,500 linear feet of oceanfront beach and 1,400 linear feet of back barrier shoreline to protect residential homes and infrastructures along the central and northern sections of Figure Eight Island. The terminal groin structure will be placed perpendicular on the northern tip of the island along the shoulder of Rich Inlet; and the proposed source of the material for the nourishment will be dredged from an area within Nixon Channel, a back barrier channel, that has been previously used for past beach nourishment projects. In case the quantity of material from Nixon Channel is not sufficient, material pumped from (3) nearby upland disposal islands will be used to supplement the nourishment needs. The majority of the material will be disposed within the fillet area, or down shore, of the groin. Pending storm events and shoreline changes, proposed maintenance, or periodic nourishment, of the beach is once every five years, or potentially 6 separate events over the 30-year study period. Nixon Channel and the upland disposal islands are the proposed material sources for the periodic maintenance, or renourishment, events.

DATES: Written comments on the FEIS must be received at (see ADDRESSES below) no later than 5 p.m. on August 1, 2016.

Next Action: No less than 30 days from the release date of the FEIS, the COE will prepare a Record of Decision (ROD), which will reflect an issuance or denial of the permit request for the applicant's preferred alternative. The preferred alternative is described in the SUPPLEMENTARY INFORMATION section below. A public notice will be released upon completion and signature of the ROD.

ADDRESSES: Copies of comments and questions regarding the FEIS may be addressed to: U.S. Army Corps of Engineers, Wilmington District, Regulatory Division. ATTN: File Number 2006-41158, 69 Darlington Avenue, Wilmington, NC 28403. Copies of the FEIS can be reviewed on the Corps homepage at, http://www.saw.usace.army.mil/Missions/RegulatoryPermitProgram/MajorProjects.aspx, under Figure Eight Island Terminal Groin: Corps ID #SAW-2006-41158.

FOR FURTHER INFORMATION CONTACT: Questions about the proposed action and FEIS and/or to requests receive a CD or written copies of the FEIS can be directed to Mr. Mickey Sugg, Wilmington Regulatory Field Office, telephone: (910) 251-4811 or mickey.t.sugg@usace.army.mil.

SUPPLEMENTARY INFORMATION:

1. Project Purpose and Need. Over the past several decades, the Figure Eight Beach HOA has taken action to address the continuing oceanfront erosion problems associated with Rich Inlet and Nixon Channel erosion hot-spot on the estuarine side of the island. Past actions to protect the shorelines have provided some protection, however they are seeking a longer term solution to handle shoreline erosion in order to protect the island's $907,352,900 (based on the 2012 reappraisal) assessed property tax value. The HOAs stated needs of the project continue to be the following: (1) Reduce erosion along approximately 2.3 miles of oceanfront and 0.34 mile of back barrier shorelines, (2) Provide reasonable short-term protection to residential structures to any unpredicted shoreline change over the next five years, (3) Provide long-term protection to homes and infrastructure over the next 30 years, (4) Maintain the tax value of homes, properties, and infrastructure, (5) Use beach compatible material, (6) Maintain navigation conditions within Rich Inlet and Nixon Channel, (7) Maintain recreational resources, and (8) Balance the needs of the human environment with the protection of existing natural resources.

2. Proposed Action. Within the Town's preferred alternative, known as Alternative 5D, the installation of the terminal groin is the main component in the protection of the oceanfront shoreline. The proposed structure would be located just north of the existing homes along the southern shoulder of Rich Inlet. Its total length would be approximately 1,500 feet, which approximately 505 feet would project seaward of the 2007 mean high water shoreline. The landward 995-foot anchor section would extend across the island and terminate near the Nixon Channel Shoreline. This section would be constructed of 14,000 to 18,000 square feet of sheet pile with the last approximate 100 feet of the anchor portion wrapped with rock. Although engineering design plans are not finalized, basic construction design of the seaward 505-foot part of the structure will be in the form of a typical rubble (rock) mound feature supported by a 1.5-foot thick stone foundation blanket. Crest height or elevation of this section is estimated to be +6.0 feet NAVD for the first 400 feet and would slope to a top elevation of +3.0 feet NAVD on the seaward end. Approximately 16,000 tons of stone would be used to construct the terminal groin. The concept design of the structure is intended to allow littoral sand transport to move over, around, and through the groin once the accretion fillet has completely filled in.

Construction of the terminal groin would be kept within a corridor varying in width from 50 feet to 200 feet. Within this corridor, a 40-70 foot wide trench would be excavated to a depth of −2.5 feet NAVD in order to construct the foundation of the landward section. The approximate 6,000 cubic yards of excavated material would be replaced on and around the structure once it's in place. Material used to build the groin would be barged down the Atlantic Intracoastal Waterway (AIWW), through Nixon Channel, and either offloaded onto a temporary loading dock or directly onto shore. It would then be transported, via dump trucks, within the designated corridor to the construction site.

Material used for nourishment would be dredged, using a hydraulic cutterhead plant, from a designated borrow site within Nixon Channel, which has been previously used for beach fill needs. The proposed dredging footprint in the channel area is approximately 30 acres in size and the target depth of dredging is −11.4 feet NAVD. Approximately 294,500 cubic yards would be required for both the oceanfront (237,500 cubic yards) and the Nixon Channel shoreline (57,000 cubic yards) fill areas under the 2006 and 2012 shoreline study conditions. Beach compatible material from (3) upland disposal islands would serve as a contingency sediment source.

Engineer modeling results have shown that periodic nourishment would be required approximately once every five years to maintain the beach and Nixon Channel shorelines. The combined 5-year estimated maintenance needs for both areas are 320,000 cubic yards of material under the 2006 condition and 255,000 cubic yards of material under 2012 condition, equivalent to approximately 58,000 and 45,000 cubic yards per year respectively. This material would come from the designated Nixon Channel borrow site and the (3) upland disposal areas.

3. Alternatives. Several alternatives have been identified and evaluated through the scoping process, and further detailed description of all alternatives is disclosed in Section 3.0 of the FEIS.

4. Scoping Process. To date, a public scoping meeting was held on March 1, 2007; several Project Delivery Team (PDT) meetings have been held, which were comprised of local, state, and federal government officials, local residents and nonprofit organizations; the Draft EIS was released for public comments on May 18, 2012; a Public Hearing was conducted on June 7, 2012; a Supplemental EIS was released for public comments on July 10, 2015; and a second Public Hearing was held on September 2, 2015.

The COE is currently consulting with the U.S. Fish and Wildlife Service and the National Marine Fisheries Service Protected Resources Division under the Endangered Species Act; with U.S. Fish and Wildlife under the Fish and Wildlife Coordination Act, and have concluded consultation with the National Marine Fisheries Service Habitat Conservation Division under the Magnuson-Stevens Act. Additionally, the FEIS assesses the potential water quality impacts pursuant to Section 401 of the Clean Water Act, and is coordinated with the North Carolina Division of Coastal Management (DCM) to insure consistency with the Coastal Zone Management Act. The COE has coordinated closely with DCM in the development of the FEIS to ensure the process complies with the requirements of the State Environmental Policy Act (SEPA), as well as the National Environmental Policy Act (NEPA). The FEIS has been designed to consolidate both NEPA and SEPA processes to eliminate duplications.

Dated: June 22, 2016.
Scott McLendon,
Regulatory Division Chief, Wilmington District.

[FR Doc. 2016-15310 Filed 6-28-16; 8:45 am]

BILLING CODE 3720-58-P